DEPARTMENT OF AGRICULTURE

Risk Management Agency

Request for Extension and Revision of a Currently Approved Information Collection

AGENCY: Risk Management Agency, USDA.

ACTION: Notice and request for comments.

SUMMARY: In accordance with the Paperwork Reduction Act of 1995 (44 U.S.C Chapter 35) this notice announces the Risk Management Agency's intention to request an extension for and revision to a currently approved information collection for Request for Applications for Research Partnerships.

DATES: Comments on this notice will be accepted until close of business, August 8, 2005.

FOR FURTHER INFORMATION CONTACT: Virginia Guzman, United States Department of Agriculture (USDA), Research and Evaluation Division, Federal Crop Insurance Corporation, Risk Management Agency, 6501 Beacon Drive, Mail Stop 813, Kansas City, MO 64133, telephone (816) 926-6343. Comments may also be submitted electronically to: RMARED_PRA@rm.fcic.usda.gov.

SUPPLEMENTARY INFORMATION: Title: Research and Development, Request for Applications.

OMB Number: 0563-0065.

Type of Request: Extension and revision of a currently approved information collection.

Abstract: The Risk Management Agency intends to seek information in order to fulfill its mission to fund the development of non-insurance risk management tools that will be utilized by agricultural producers to assist them in mitigating the risks inherent in agricultural production and to improve the economic stability of agriculture through the maintenance and development of risk management tools. The Risk Management Agency (RMA), on behalf of the Federal Crop Insurance Corporation (FCIC), is committed to meeting the risk management needs and improving or developing risk management tools for the nation's farmers and ranchers. The Risk Management Agency proposes to publish Requests for Applications (RFA) to announce the availability of funds and solicit proposals requesting funding for the development of risk management tools. The information collections will be limited to the request for applications and status reports. Information collections are necessary to evaluate proposals and award funds based on a competitive process and to obtain the information necessary for the development of partnership agreements and to obtain information on the status of research agreements and projects.

Estimate of Burden: The public reporting burden for this collection of information is estimated to average 2,400 minutes per response for a total burden of 6,000 hours.

Respondents/Affected Entities: Applications for funding are invited from qualified public and private entities. Eligible applicants include colleges and universities, Federal, State, and local agencies, Native American tribal organizations, non-profit and for-profit private organizations or corporations, and other entities. Individuals are not eligible applicants.

Estimated annual number of respondents: 150.

Estimated annual number of responses: 150.

Estimated total annual burden on respondents: 6,000.

Comments are invited on: (1) Whether the proposed collection of information is necessary for the proper performance of the functions of the agency, including whether the information will have practical utility; (2) the accuracy of the agency's estimate of the burden of the proposed collection information; (3) ways to enhance the quality, utility, and clarity of the information to be collected; and (4) ways to minimize the burden of the collection of information on those who are to respond, through use, as appropriate, of automated, electronic, mechanical, or other collection technologies, e.g. permitting electronic submission of responses. Comments may be sent to Virginia Guzman, United States Department of Agriculture (USDA), Research and Evaluation Division, Federal Crop Insurance Corporation, Risk Management Agency, 6501 Beacon Drive, Mail Stop 813, Kansas City, MO 64133. All comments will be available for public inspection during regular business hours at the same address.

All responses to this notice will be summarized and included in the request for OMB approval. All comments will also become a matter of public record.

Signed in Washington, DC, on June 2, 2005.
R.J. Davidson, Jr.,
Manager, Federal Crop Insurance Corporation.

[FR Doc. 05-11314 Filed 6-7-05; 8:45 am]

BILLING CODE 3410-08-P